DEPARTMENT OF THE INTERIOR

Bureau of Reclamation

[RR01041000, 17XR0680G3, RX.16786921.2000100]

Notice of Additional Scoping Meeting for the Columbia River System Operations Environmental Impact Statement

AGENCIES: Bureau of Reclamation, Interior.

ACTION: Notice.

SUMMARY: The Bureau of Reclamation, along with the U.S. Army Corps of Engineers and the Bonneville Power Administration as joint lead agencies, are adding one public scoping meeting to invite the public to comment on the scope of the Columbia River System Operations Environmental Impact Statement.

DATES: The additional scoping meeting will be held on Monday, November 21, 2016, 4 p.m. to 7 p.m., in Pasco, Washington.

ADDRESSES: The meeting will be held at the Holiday Inn Express & Suites Pasco-Tri Cities, 4525 Convention Place, Pasco, Washington 99301.

FOR FURTHER INFORMATION CONTACT: Call the toll-free telephone 1-(800) 290-5033 or email info@crso.info. Additional information can be found at the project Web site: www.crso.info.

SUPPLEMENTARY INFORMATION: One scoping meeting is being added to the schedule. All other scoping meetings for the Columbia River System Operations Environmental Impact Statement were previously announced in a notice that was published in the Federal Register on September 30, 2016 (81 FR 67382). As the project evolves, there may be additional scoping meetings. All additional scoping meetings for this project will be announced on the project Web site at www.crso.info.

Dated: October 26, 2016.
Lorri J. Lee,
Regional Director—Pacific Northwest Region, Bureau of Reclamation.

[FR Doc. 2016-26740 Filed 11-3-16; 8:45 am]

BILLING CODE 4332-90-P